DEPARTMENT OF AGRICULTURE

Rural Business-Cooperative Service

[DOCKET #: RBS-23-BUSINESS-0024]

Notice of Solicitation of Applications for the Rural Innovation Stronger Economy (RISE) Grant Program for Fiscal Year 2024

AGENCY: Rural Business-Cooperative Service, USDA.

ACTION: Notice.

SUMMARY: The Rural Business-Cooperative Service (RBCS, Agency), a Rural Development (RD) agency of the United States Department of Agriculture (USDA), invites applications under the Rural Innovation Stronger Economy (RISE) program for fiscal year (FY) 2024, subject to the availability of funding. The Agency estimates $2,000,000 will be available for the RISE Program for FY 2024. Selected applicants will use Agency grant funds to provide financial assistance in support of innovation centers and job accelerator programs that improve the ability of distressed rural communities to create high wage jobs, accelerate the formation of new businesses, and help rural communities identify and maximize local assets. All applicants are responsible for any expenses incurred in developing their applications.

DATES: Completed applications must be submitted electronically no later than 11:59 p.m. Eastern Time April 1, 2024, through www.grants.gov to be eligible for grant funding. Please review the Grants.gov website for instructions on the process of registering your organization as soon as possible to ensure that you are able to meet the electronic application deadline. The Agency will not consider any application(s) received after the deadline and that are not submitted through www.grants.gov. Potential applicants may submit a concept proposal for review by the Agency to www.grants.gov by 4:30 p.m. local time on February 1, 2024 in compliance with 7 CFR 4284.1115(a). The application and Concept Proposal deadline dates and times are firm.

ADDRESSES: Entities wishing to apply for a RISE grant, or to submit a Concept Proposal for their project, may download the application documents and requirements delineated in this Notice from the RD RISE website: https://www.rd.usda.gov/programs-services/business-programs/rural-innovation-stronger-economy-rise-grants. Information for the submission of an electronic application may be found at: www.grants.gov. Concept Proposals containing elements outlined in Section D.2 of this Notice must be submitted to www.grants.gov.

FOR FURTHER INFORMATION CONTACT: Rachel Reister, Program Management Division, RBCS, USDA, 1400 Independence Avenue SW, Mail Stop-3226, Washington, DC 20250-3226, (202) 720-1400 or email: rachel.reister@usda.gov.

SUPPLEMENTARY INFORMATION:

Overview

Federal Awarding Agency Name: Rural Business-Cooperative Service.

Funding Opportunity Title: Rural Innovation Stronger Economy Grant Program.

Announcement Type: Notice of Solicitation of Applications.

Funding Opportunity Number: RD-RBS-24-01-RISE.

Assistance Listing: 10.755.

Dates: Electronic applications must be received and accepted by no later than 11:59 Eastern Time, April 1, 2024, or they will not be considered for funding.

Potential applicants may submit a concept proposal for review by the Agency to https://www.grants.gov: February 1, 2024 in compliance with 7 CFR 4284.1115(a). Submission of a concept proposal is not an application for program funds.

Rural Development Key Priorities: The Agency encourages applicants to consider projects that will advance the following key priorities (more details available at https://www.rd.usda.gov/priority-points):

• Assisting rural communities to recover economically through more and better market opportunities and through improved infrastructure;

• Ensuring all rural residents have equitable access to RD programs and benefits from RD funded projects; and

• Reducing climate pollution and increasing resilience to the impacts of climate change through economic support to rural communities.

A. Program Description

1. Purpose of the Program. The RISE program is a grant program to help struggling communities by funding job accelerators in low-income rural communities. The primary objective of the RISE program is to support jobs accelerator partnerships to improve the ability of distressed rural communities to create high wage jobs, accelerate the formation of new businesses through innovation centers, and help rural communities identify and maximize local assets.

2. Statutory Authority. The RISE program is a grant program authorized under section 379I of the Consolidated Farm and Rural Development Act (7 U.S.C. 2008w). The regulations governing this program are published at 7 CFR part 4284, subpart L.

3. Definitions. The definitions applicable to this Notice are published at 7 CFR 4284.1103. In addition, the terms “rural” and “rural area” are defined at section 379I of the Consolidated Farm and Rural Development Act (7 U.S.C. 1991(a)(13)) and will be used for this program.

4. Application of Awards. The Agency will review, evaluate, and score applications received in response to this Notice based on the provisions found in 7 CFR 4284.1117, Scoring RISE grant applications, and as indicated in this Notice. Awards under the RISE program will be made on a competitive basis using specific selection criteria contained in 7 CFR 4284.1118, Selecting RISE grant applications for award. The Agency will award RISE grants in accordance with 7 CFR 4284.1119, Awarding and Administering RISE Grants.

B. Federal Award Information

Type of Award: Grants.

Fiscal Year Funds: FY 2024.

Available Funds: Funding is anticipated to be $2,000,000. RBCS may, at its discretion, increase the total level of funding available in this funding round or in any category in this funding round from any available source provided the awards meet the requirements of the statute which made the funding available to the agency.

Award Amounts: The minimum award amount per grant is $500,000 and the maximum award amount per grant is $2,000,000, as authorized by Section 379I of the Consolidated Farm and Rural Development Act (7 U.S.C. 2008w).

Anticipated Award Date: September 15, 2024.

Anticipated Performance Period: September 15, 2024 through December 31, 2028.

Renewal or Supplemental Awards: None.

Type of Assistance Instrument: Grant Agreement.

C. Eligibility Information

1. Eligible Applicants. An eligible applicant must be a rural jobs accelerator partnership formed after December 20, 2018, and meet the eligibility criteria found in 7 CFR 4284.1112 and this Notice to apply for this program. Eligibility exclusions are as follows:

(a) Individuals and individual entities such as businesses are not eligible applicants for the RISE program.

(b) An applicant is not eligible if they have been debarred or suspended or otherwise excluded from or ineligible for participation in Federal assistance programs under Executive Order 12549, “Debarment and Suspension.” The Agency will check the System for Award Management (SAM) at the time of application, prior to funding any grant award, and disbursement of funds to determine if the applicant has been debarred or suspended. In addition, an applicant will be considered ineligible for a grant due to an outstanding judgment obtained by the U.S. in a Federal Court (other than U.S. Tax Court), is delinquent on the payment of Federal income taxes, or is delinquent on Federal debt. See 7 CFR 4284.1109. The applicant must certify as part of the application that they do not have an outstanding judgment against them. The Agency will check the Do Not Pay System at the time of application, prior to funding any grant award and each disbursement of funds to verify this information.

(c) Any corporation that has been convicted of a felony criminal violation under any Federal law within the past 24 months or that has any unpaid Federal tax liability that has been assessed, for which all judicial and administrative remedies have been exhausted or have lapsed, and that is not being paid in a timely manner pursuant to an agreement with the authority responsible for collecting the tax liability, is not eligible for financial assistance unless a Federal agency has considered suspension or debarment of the corporation and has made a determination that this further action is not necessary to protect the interests of the Government.

Applications that fail to meet any of these requirements by the application deadline will be deemed ineligible and will not be evaluated further.

2. Cost Sharing or Matching. The matching funds requirement is 20 percent of the eligible project costs of any activity carried out using RISE grant funds. Matching funds must be available throughout the grant term and applied individually to each RISE activity. Grant funds may only be used for up to 80 percent of an eligible RISE activity. Additional information on matching funds is found at 7 CFR 4284.1114. When calculating the matching funds requirement, round to whole dollars as appropriate. The matching funds requirement is calculated by multiplying the total eligible project costs of each eligible RISE activity by 0.20. The amount of matching funds required for the RISE activities is then added together to obtain the total amount of non-Federal matching funds required for the project. Applications that only provide matching funds equal to 20 percent of the grant amount will be deemed ineligible due to an insufficient matching funds amount.

A written commitment of matching funds must be provided to verify that all matching funds are available during the grant period and this documentation should be included in the application in accordance with requirements identified in Section D.2 of this Notice. If an applicant is awarded a grant, additional verification documentation may be required to confirm the availability of matching funds for the duration of the grant term.

Matching funds must meet all of the following criteria:

(a) They must be spent on eligible expenses during the grant period.

(b) They must be from eligible sources.

(c) They must be spent in advance or as a pro-rata portion of grant funds being spent.

(d) They must be provided by either the applicant or a third party in the form of cash or an in-kind contribution.

(e) They cannot include other Federal grants unless provided by authorizing legislation.

(f) They cannot include cash or in-kind contributions donated outside of the grant period.

(g) They cannot include over-valued, in-kind contributions.

(h) They cannot include any project costs that are ineligible under the RISE program.

(i) They cannot be used for ineligible grant purposes as stated in 7 CFR 4284.1114, 2 CFR part 200, subpart E, “Cost Principles,” and the most current Federal Acquisition Regulation (for-profits) or successor regulations.

(j) They can include reasonable and customary travel expenses for staff delivering the RISE program if written policies explaining how these costs are normally reimbursed, including rates, have been established. An explanation of this policy must be included in the application, or the contributions will not be considered as eligible matching funds.

(k) Applicants must be able to document and verify the number of hours worked and the value associated with any in-kind contribution being used to meet a matching funds requirement.

(l) In-kind contributions provided by individuals, businesses, or cooperatives which are being assisted by the Applicant cannot provide any direct benefit to their own projects as the Agency considers this to be a conflict of interest or the appearance of a conflict of interest.

3. Other Eligibility Requirements.

(a) Purpose Eligibility. Applications must propose the establishment of an innovation center and/or costs directly related to operations of an innovation center and/or costs directly associated with support of programs to be carried out at or in direct partnership with job accelerators as outlined in 7 CFR 4284.1113. The Applicant project outcome must accelerate the formation of new businesses with high-growth potential, improve the ability of rural businesses and distressed rural communities to create high-wage jobs, and strengthen rural regional economies. Project funds, including grant and matching funds, must be for eligible purposes only as outlined in 7 CFR 4284.1114.

(b) Project Eligibility. All project activities must be for the benefit of communities, industries and residents located in a rural area, as defined. The Applicant is cautioned against taking any actions or incurring any obligations prior to the Agency completing the environmental review that would either limit the range of alternatives to be considered or that would have an adverse effect on the environment, such as the initiation of construction. If the Applicant takes any such actions or incurs any such obligations, it could result in project ineligibility. Projects involving the construction of an innovation center as an eligible purpose are subject to the environmental requirements of 7 CFR part 1970, as well as the applicable design and construction requirements of RD and the adopted codes of the jurisdiction.

(c) Additional Eligibility Requirements.

(i) The rural jobs accelerator partnership must have a lead applicant who is responsible for the administration of the grant proceeds and activities. A lead applicant will be the named applicant on Agency documents and must be one of the following entities listed in 7 CFR 4284.1112(b), which is as follows:

(1) A district organization;

(2) An Indian Tribe or a political subdivision of a Tribe, including a special purpose unit of a tribal government engaged in economic development activities, or a consortium of Indian Tribes;

(3) A State or a political subdivision of a State, including a special purpose unit of a State or local government engaged in economic development activities, or a consortium of political subdivisions;

(4) An institution of higher education (as defined in section 101 of the Higher Education Act of 1965 (20 U.S.C. 1001)) or a consortium of institutions of higher education; or

(5) A public or private nonprofit organization.

(ii) The Lead Applicant must be registered in the System for Award Management (SAM) prior to submitting an application. The Lead Applicant must also maintain an active SAM registration with current information at all times during which it has an active Federal award or an application under consideration by the Agency. All other restrictions in this Notice will apply.

(iii) Applications will be deemed ineligible if the application includes any funding restrictions identified under Section D.6 of this Notice. Inclusion of funding restrictions outlined in Section D.6 of this Notice precludes the Agency from making a federal award.

(d) Completeness. An application will not be considered for funding if it fails to meet an eligibility criterion by the time of application deadline or does not provide sufficient information to determine eligibility and scoring. Applicants must include all the forms and proposal elements as discussed in the regulation and as clarified further in this Notice in one package. Incomplete applications will not be reviewed by the Agency.

D. Application and Submission Information

1. Address to Request Application Package. For further information and program materials, including an Application Template, contact the RD National Office and/or review the program website at https://www.rd.usda.gov/programs-services/business-programs/rural-innovation-stronger-economy-rise-grants. Application information is also available at www.grants.gov.

2. Content and Form of Application Submission. An application must contain all the required elements outlined in 7 CFR 4284.1115. Each application must address the applicable scoring criteria presented in 7 CFR 4284.1117 for the type of funding being requested.

The Application Template provides specific, detailed instructions for each item of a complete application. The Agency strongly encourages the Applicant to use the examples and illustrations in the Application Template to assist in developing a complete application package.

Potential applicants may submit a concept proposal for review by the Agency to www.grants.gov by 4:30 p.m. local time on February 1, 2024 in compliance with 7 CFR 4284.1115(a). The concept proposal should be in a narrative format up to 10 pages in length using a minimum of 11-point font and submitted electronically through www.grants.gov. The concept proposal must include all items stated in 7 CFR 4284.1115(a). The concept proposal will be evaluated by the Agency and an encouragement or discouragement letter will be issued to the potential applicant. If a discouragement letter is issued, it will detail any weaknesses evaluated in the Agency's review, though a complete application may still be submitted prior to the application deadline. Applicants who submit a concept proposal to the Agency will not need to resubmit the same information with their application. However, submission of a concept proposal is not an application for program funds. Applicants that do not submit a concept proposal may still submit a complete application for Agency review.

Only one application can be submitted per applicant, who is defined as a lead applicant as found in 7 CFR 4284.1112(b). If two applications are submitted by the same lead applicant, both applications will be deemed ineligible for funding. Applications must be submitted electronically through www.grants.gov. Applications submitted to the Agency in any format outside of Grants.gov will not be considered for funding.

3. System for Award Management and Unique Entity Identifier.

(a) At the time of application, each applicant must have an active registration in the System for Award Management (SAM) before submitting its application in accordance with 2 CFR part 25. In order to register in SAM, entities will be required to obtain a Unique Entity Identifier (UEI). Instructions for obtaining the UEI are available at https://sam.gov/content/entity-registration.

(b) Applicant must maintain an active SAM registration, with current, accurate and complete information, at all times during which it has an active Federal award or an application under consideration by a Federal awarding agency.

(c) Applicant must ensure they complete the Financial Assistance General Certifications and Representations in SAM.

(d) Applicant must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Date and Time.

(a) Concept Proposal Submittals. Potential applicants may electronically submit a concept proposal for review by the Agency to www.grants.gov by 4:30 p.m. local time on February 1, 2024, in compliance with 7 CFR 4284.1115(a) and as stated in Section D.2 of this Notice. Submission of a concept proposal is not an application for program funds.

(b) Application Deadline Date. Completed applications must be submitted electronically through www.grants.gov no later than 11:59 p.m. Eastern Time, April 1, 2024, to be eligible for grant funding.

Late or incomplete applications will not be eligible for funding under this grant opportunity. The Agency will not solicit or consider new scoring or eligibility information that is submitted after the application deadline. The Agency also reserves the right to ask applicants for clarifying information and additional verification of assertions in the application.

5. Intergovernmental Review of Applications. Executive Order (E.O.) 12372, “Intergovernmental Review of Federal Programs,” applies to this program. This E.O. requires that Federal agencies provide opportunities for consultation on proposed assistance with State and local governments. Many states have established a Single Point of Contact (SPOC) to facilitate this consultation. For a list of States that maintain an SPOC, please see the White House website: https://www.whitehouse.gov/omb/management/office-federal-financial-management/. If your State has a SPOC, you may submit a copy of the application directly for review. Any comments obtained through the SPOC must be provided to your State Office for consideration as part of your application. If your State has not established a SPOC, or if you do not want to submit a copy of the application, our State Offices will submit your application to the SPOC or other appropriate agency or agencies. Applications from Federally recognized Tribes are not subject to this requirement.

6. Funding Restrictions.

(a) Please note that no assistance or funding from this grant can be provided to a hemp producer unless they have a valid license issued from an approved State, Tribal or Federal plan as defined by the Agriculture Improvement Act of 2018, Public Law 115-334. Verification of valid hemp licenses will occur at the time of award.

(b) Grant funds may be used to pay for up to 80 percent of eligible project activity costs. Grant funds may be used to pay for costs directly related to the purchase or construction of an innovation center located in a low-income rural area; costs directly related to operations of an innovation center including purchase of equipment, office supplies, and administrative costs including salaries directly related to the project; costs directly associated with support programs to be carried out at or in direct partnership with job accelerators; reasonable and customary travel expenses directly related to job accelerators and at rates in compliance with 2 CFR 200.474; utilities, operating expenses of the innovation center and job accelerator programs and associated programs; and administrative costs of the grantee not exceeding 10% of the grant amount for the duration of the project.

(c) Applications must include a cost and performance plan for no more than a four-year grant period, or it will not be considered for funding. The grant period should begin no earlier than September 15, 2024, and no later than January 1, 2025. Applications that request funds for a project with a performance period ending after December 31, 2028, will not be considered for funding. Projects must be completed within a four-year timeframe. Prior approval is needed from the Agency if applicants are awarded a grant and desire the grant period to begin earlier or later than previously discussed or approved.

The Agency may approve requests to extend the grant period for up to an additional two-year period at its discretion. Further guidance on grant period extensions will be provided in the award document.

(d) Project funds, including grant and matching funds, cannot be used for ineligible grant purposes as stated in 7 CFR 4284.1114, 2 CFR part 200, subpart E, “Cost Principles,” and the most current Federal Acquisition Regulation (for-profits) or successor regulations.

(e) In addition, an application will not be considered for funding if it does any of the following:

(i) Focuses assistance on only one business;

(ii) Requests less than the minimum grant amount or more than the maximum grant amount;

(iii) Includes administrative costs in excess of 10 percent of the grant amount for the project budget; or

(iv) Funds that pass through to a member of the partnership in the form of lease payments or other activities with a conflict of interest or appearance thereof.

7. Other Submission Requirements.

(a) Applications should not be submitted in more than one format or in more than one submission. Applications should be submitted electronically through www.grants.gov only. Applications will not be accepted through mail or courier delivery, in-person delivery, email, or fax.

(b) To submit an application electronically, applicants must follow instructions provided at www.grants.gov. The Grants.gov website provides information about applying electronically as well as the hours of operation. A password is not required to access the website. Applicants are advised to not wait until the application deadline date to begin the application process through Grants.gov. The Grants.gov downloadable application package for this program may be located by using a keyword, the program name, or the assistance listing number for this program. Instructions for registering an organization can be found at https://sam.gov/content/entity-registration and should be completed as soon as possible to ensure that the electronic application deadline can be met. Grants.gov will not accept applications submitted after the deadline.

(c) There are no specific limitations on the number of pages or other formatting requirements of an application, but a complete application should be in a narrative form using a minimum of 11-point font. The narrative must clearly describe the jobs accelerator partnership, characteristics of the targeted region and targeted industry cluster(s), and how the project meets the RISE program initiatives.

(d) The Agency also reserves the right to ask applicants for clarifying information and additional verification of assertions made in the application.

E. Application Review Information

1. Criteria. All eligible and complete applications will be evaluated and scored based on the selection criteria and weights contained in 7 CFR 4284.1117. Failure to address any of the application criteria by the application deadline will result in the application being determined ineligible, and the application will not be considered for funding.

Priority will be given to projects that will leverage next generation gigabit broadband service to promote entrepreneurship and entities based in geographical areas with established agriculture and technology sectors which are focused on the development of precision and autonomous agriculture technologies as a way to strengthen rural economies and create jobs.

To focus investments in areas resulting in the greatest opportunity for growth in prosperity, the Agency encourages applications that serve the smallest communities with the lowest incomes, with an emphasis on areas where at least 20 percent of the population is living in poverty, according to the American Community Survey data or other comparable data by census tracts or Indian Reservations.

The Agency encourages energy communities to utilize the RISE program to support workforce development; identify and maximize local assets; spur job creation; and connect to regional opportunities, networks, and industry clusters.

2. Review and Selection Process. Applications will be selected for award in accordance with the selection criteria in 7 CFR 4284.1118. Applications that cannot be fully funded may be offered partial funding at the Agency's discretion. If an application is evaluated as an eligible project, but not funded, it will not be carried forward into the next competition.

F. Federal Award Administration Information

1. Federal Award Notices.

The Agency will award RISE grants in accordance with 7 CFR 4284.1119. Applicants awarded funding will receive a signed notice of Federal award by postal or electronic mail from the USDA RD State Office located where the application was submitted, containing instructions and requirements necessary to proceed with execution and performance of the award. Applicants must comply with all applicable statutes, regulations, and Notice requirements before the grant award will be funded.

If an application is not selected for funding, the Applicant will be notified in writing via postal or electronic mail and informed of any review and appeal rights. See 7 CFR part 11 for USDA National Appeals Division procedures. We anticipate that there will be no available funds for successful appellants once all FY 2024 funds, if available, are awarded and obligated.

2. Administrative and National Policy Requirements. Additional requirements that apply to grantees selected for this program can be found in 7 CFR part 4284, subpart L; the Grants and Agreements regulations of the Department of Agriculture codified in 2 CFR parts 180, 184, 400, 415, 417, 418, 421; 2 CFR parts 25, 200, and 170; and 48 CFR 31.2, and successor regulations to these parts.

In addition, all recipients of Federal financial assistance are required to report information about first-tier subawards and executive compensation (see 2 CFR part 170). Applicants will be required to have the necessary processes and systems in place to comply with the Federal Funding Accountability and Transparency Act of 2006 (Pub. L. 109-282) reporting requirements (see 2 CFR 170.200(b), unless exempt under 2 CFR 170.110(b)).

The following additional requirements apply to grantees selected for awards within this program:

(a) Execution of an Agency-approved financial assistance agreement;

(b) Acceptance of a written letter of conditions; and submission of the following Agency forms:

(1) Form RD 1940-1, “Request for Obligation of Funds.”

(2) Form RD 1942-46, “Letter of Intent to Meet Conditions.”

(3) Form RD 400-1 for construction projects.

3. Reporting. After grant approval and through grant completion, applicants will be required to provide an SF-425, “Federal Financial Report,” and a performance report on a semiannual basis (due 30 working days after end of the semiannual period) for the first two years, and then annually thereafter, with the first report submitted no later than six months after receiving a grant under this section. The project performance reports shall include all items listed in 7 CFR 4284.1120(h)(2).

G. Federal Awarding Agency Contact(s)

If you have questions about this Notice, please see the contact provided in the FOR FURTHER INFORMATION CONTACT section of this Notice. Applicants wanting to apply for a RISE grant please see the ADDRESSES section of this Notice.

H. Build America Buy America Act

Funding to Non-Federal Entities. Awardees that are Non-Federal Entities, defined pursuant to 2 CFR 200.1 as any State, local government, Indian tribe, Institution of Higher Education, or nonprofit organization, shall be governed by the requirements of Section 70914 of the Build America, Buy America Act (BABAA) within the Infrastructure Investment and Jobs Act (Pub. L. 117-58), and its implementing regulations at 2 CFR part 184. Any requests for waiver of these requirements must be submitted pursuant to USDA's guidance available online at https://www.usda.gov/ocfo/federal-financial-assistance-policy/USDABuyAmericaWaiver.

I. Other Information

1. Paperwork Reduction Act. In accordance with the Paperwork Reduction Act of 1995 (44 U.S.C. chapter 35), the information collection requirements associated with this program, as covered in this Notice, have been approved by the Office of Management and Budget (OMB) under OMB Control Number 0570-0075.

2. National Environmental Policy Act. All recipients under this Notice are subject to the requirements of 7 CFR part 1970.

3. Federal Funding Accountability and Transparency Act. All applicants, in accordance with 2 CFR part 25, must be registered in SAM and have a UEI number as stated in Section D.3 of this notice. All recipients of Federal financial assistance are required to report information about first-tier sub-awards and executive total compensation in accordance with 2 CFR part 170.

4. Civil Rights Act. All grants made under this Notice are subject to title VI of the Civil Rights Act of 1964 as required by the USDA (7 CFR part 15, subpart A, 7 CFR part 15 subpart A—Nondiscrimination in Federally-Assisted Programs of the Department of Agriculture—Effectuation of title VI of the Civil Rights Act of 1964) and section 504 of the Rehabilitation Act of 1973, title VIII of the Civil Rights Act of 1968, title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov

USDA is an equal opportunity provider, employer, and lender.

Karama Neal,
Administrator, Rural Business-Cooperative Service.

[FR Doc. 2023-26792 Filed 12-29-23; 8:45 am]

BILLING CODE 3410-XY-P